DEPARTMENT OF HOMELAND SECURITY

Coast Guard

[Docket No. USCG-2018-0140]

Commercial Fishing Safety Advisory Committee

AGENCY: U.S. Coast Guard, Department of Homeland Security.

ACTION: Notice of Federal Advisory Committee teleconference meeting.

SUMMARY: The Commercial Fishing Safety Advisory Committee (CFSAC) will meet via teleconference to discuss the Regulatory Reform tasking efforts (CFSAC task statement #01-17) and may take action to submit their report to the United States Coast Guard. The teleconference will be open to the public. The U.S. Coast Guard will consider CFSAC recommendations as part of the process of identifying regulations, guidance, and collections of information to be repealed, replaced, or modified pursuant to the three Executive Orders discussed above.

DATES:

Meeting. The full Committee is scheduled to meet by teleconference on Thursday, March 15, 2018, from 1 p.m. to 4:30 p.m. Eastern Daylight Time. Please note that this teleconference may adjourn early if the Committee has completed its business.

Comments and supporting documents: To ensure your comments are reviewed by Committee members before the teleconference, submit your written comments no later than March 12, 2018.

ADDRESSES: To join the teleconference or to request special accommodations, contact the individual listed in the FOR FURTHER INFORMATION CONTACT section no later than 1 p.m. on March 12, 2018. The number of teleconference lines is limited and will be available on a first-come, first-served basis.

Instructions: You are free to submit comments at any time, including orally at the teleconference, but if you want Committee members to review your comments before the teleconference, please submit your comments no later than March 12, 2018. We are particularly interested in comments on the issue in the “Agenda” section below. You must include the words “Department of Homeland Security” and the docket number [USCG-2018-0140]. Comments received will be posted without alteration at http://www.regulations.gov, including any personal information provided. For more about privacy and the docket, review Privacy and Security Notice for the Federal Docket Management at https://www.regulations.gov/privacyNotice. Written comments may also be submitted using the Federal e-Rulemaking Portal at http://www.regulations.gov. If you encounter technical difficulties with comment submission, contact the individual listed in the FOR FURTHER INFORMATION CONTACT section of this notice.

Docket Search: For access to the docket or to read documents or comments related to this notice, go to http://www.regulations.gov, insert “USCG-2018-0140” in the Search box, press Enter, and then click on the item you wish to view.

FOR FURTHER INFORMATION CONTACT: Mr. Joseph D. Myers, Alternate Designated Federal Officer of the Commercial Fishing Safety Advisory Committee, (202) 372-1249, or email joseph.d.myers@uscg.mil or Mr. Jonathan Wendland, Alternate Designated Federal Officer of the Commercial Fishing Safety Advisory Committee, telephone (202) 372-1245, or email jonathan.g.wendland@uscg.mil.

SUPPLEMENTARY INFORMATION: Notice of this meeting is in compliance with the Federal Advisory Committee Act, Title 5 U.S.C., Appendix.

The Commercial Fishing Safety Advisory Committee is authorized by Title 46 United States Code Section 4508. The Committee's purpose is to provide advice and recommendations to the United States Coast Guard and the Department of Homeland Security on matters relating to the safe operation of commercial fishing industry vessels.

Agenda

The agenda for the March 15, 2018, is as follows:

(1) Introduction.

(2) Roll call of Committee members and determination of a quorum.

(3) Old Business from the 37th Commercial Fishing Safety Advisory Committee meeting.

(4) New Business.

(5) Discussion of Regulatory Reform Task #01-17 Input to Support Regulatory Reform of Coast Guard Regulations—Executive Orders 13771 and 13783.

(6) Public Comment period.

(7) Formulate recommendations regarding Task #01-17.

A copy of all meeting documentation is available at http://www.dco.uscg.mil/Our-Organization/Assistant-Commandant-for-Prevention-Policy-CG-5P/Inspections-Compliance-CG-5PC-/Commercial-Vessel-Compliance/Fishing-Vessel-Safety-Division/CFSAC-Meetings/. Alternatively, you may contact Mr. Joseph D. Myers or Mr. Jonathan Wendland as noted in the FOR FURTHER INFORMATION CONTACT section above.

Public comments will be limited to three minutes. Please note that the public comment period may end before the period allotted, following the last call for comments. Please contact the individual listed in the FOR FURTHER INFORMATION CONTACT section above to register as a speaker.

Dated: February 20, 2018.
Jennifer F. Williams,
Captain, U.S. Coast Guard, Director of Inspections and Compliance.

[FR Doc. 2018-03749 Filed 2-22-18; 8:45 am]

BILLING CODE 9110-04-P